COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products and services to be furnished by nonprofit agencies employing persons who are blind or have other severe disabilities.

Comments Must Be Received On or Before: April 10, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions. If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSN: Net, Cargo, Tiedown, 1670-00-969-4103 (Top), 1670-00-996-2780 (Side)

NPA: Clark County Board of Mental Retardation & Developmental Disabilities, Springfield, OH

Contracting Activity: Support Equipment & Vehicle Contracting Division, Robins AFB, Georgia

Services

Service Type/Location: Custodial & Grounds Maintenance. Richard L. Roudebush VA Medical Center (At the following Locations), Basement, 2nd Floor, Outbuildings, Parking Garage, 1481 W. Tenth Street, Indianapolis, Indiana, Building 7, 2669 Cold Springs Road, Indianapolis, Indiana

NPA: GW Commercial Services, Inc., Indianapolis, Indiana

Contracting Activity: VA Medical Center, Indianapolis, Indiana

Service Type/Location: Mailing Services, Government Printing Office—Laurel Warehouse, 8610 & 8660 Cherry Lane, Laurel, Maryland

NPA: Alliance, Inc., Baltimore, Maryland

Contracting Activity: Government Printing Office, Washington, DC

Sheryl D. Kennerly,
Director, Information Management.

[FR Doc. 05-4835 Filed 3-10-05; 8:45 am]

BILLING CODE 6353-01-P